NUCLEAR REGULATORY COMMISSION

[Docket No. 030-21059; License No. 22-16537-02; EA-00-147]

In the Matter of Braun Intertec Corporation, Minneapolis, Minnesota; Order Imposing Civil Monetary Penalty

I

Braun Intertec Corporation (Licensee) is the holder of Materials License No. 22-16537-02 issued by the Nuclear Regulatory Commission (NRC or Commission) on September 29, 1999, and amended in its entirety on July 21, 2000. The license authorizes the Licensee to perform industrial radiography in accordance with the conditions specified therein.

II

An inspection of the Licensee's activities was conducted January 26 through February 24, 2000, and an investigation was initiated on February 7, 2000. The results of the inspection and investigation indicated that the Licensee had not conducted its activities in full compliance with NRC requirements. A written Notice of Violation and Proposed Imposition of Civil Penalty (Notice) was served upon the Licensee by letter dated August 14, 2000. The Notice states the nature of the violation, the provision of the NRC's requirements that the Licensee had violated, and the amount of the civil penalty proposed for the violation.

The Licensee responded to the Notice in a letter dated September 12, 2000. In its response, the Licensee agreed with the violation, but disputed that the violation was willful or was caused by “careless disregard” on the part of licensee personnel.

III

After consideration of the Licensee's response and the statements of fact, explanation, and argument for mitigation contained therein, the NRC staff has determined, as set forth in the letter forwarding this Order, that the violation occurred as stated and that the penalty proposed for the violation designated in the Notice should be imposed.

IV

In view of the foregoing and pursuant to Section 234 of the Atomic Energy Act of 1954, as amended (Act), 42 U.S.C. 2282, and 10 CFR 2.205, It Is Hereby Ordered That:

The Licensee pay a civil penalty in the amount of $5,500 within 30 days of the date of this Order, in accordance with NUREG/BR-0254. In addition, at the time of making the payment, the licensee shall submit a statement indicating when and by what method payment was made, to the Director, Office of Enforcement, U.S. Nuclear Regulatory Commission, One White Flint North, 11555 Rockville Pike, Rockville, MD 20852-2738.

V

The Licensee may request a hearing within 30 days of the date of this Order. Where good cause is shown, consideration will be given to extending the time to request a hearing. A request for extension of time must be made in writing to the Director, Office of Enforcement, U.S. Nuclear Regulatory Commission, Washington, DC 20555, and include a statement of good cause for the extension. A request for a hearing should be clearly marked as a “Request for an Enforcement Hearing” and shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, and to the Regional Administrator, NRC Region III, 801 Warrenville Road, Lisle, Illinois, 60532.

If a hearing is requested, the Commission will issue an Order designating the time and place of the hearing. If the Licensee fails to request a hearing within 30 days of the date of this Order (or if written approval of an extension of time in which to request a hearing has not been granted), the provisions of this Order shall be effective without further proceedings. If payment has not been made by that time, the matter may be referred to the Attorney General for collection.

In the event the Licensee requests a hearing as provided above, the issues to be considered at such hearing shall be whether, on the basis of the findings made by the staff, this Order should be sustained.

Dated this 14th day of November 2000.
For the Nuclear Regulatory Commission.
R.W. Borchardt,
Director, Office of Enforcement.

[FR Doc. 00-29836 Filed 11-21-00; 8:45 am]

BILLING CODE 7590-01-P